NUCLEAR REGULATORY COMMISSION

[NRC-2016-0059]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from March 1, 2016, to March 14, 2016. The last biweekly notice was published on March 15, 2016.

DATES: Comments must be filed by April 28, 2016. A request for a hearing must be filed by May 31, 2016.

ADDRESSES: You may submit comments by any of the following methods (unless this document describes a different method for submitting comments on a specific subject):

• Federal Rulemaking Web site: Go to http://www.regulations.gov and search for Docket ID NRC-2016-0059. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Sandra Figueroa, Office of Nuclear Reactor Regulation, U.S. Nuclear Regulatory Commission, Washington DC 20555-0001; telephone: 301-415-1262, email: Sandra.Figueroa@nrc.gov.

SUPPLEMENTARY INFORMATION:

I. Obtaining Information and Submitting Comments

A. Obtaining Information

Please refer to Docket ID NRC-2016-0059 when contacting the NRC about the availability of information for this action. You may obtain publicly-available information related to this action by any of the following methods:

• Federal Rulemaking Web site: Go to http://www.regulations.gov and search for Docket ID NRC-2016-0059.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section of this document.

• NRC's PDR: You may examine and purchase copies of public documents at the NRC's PDR, Room O1-F21, One White Flint North, 11555 Rockville Pike, Rockville, Maryland 20852.

B. Submitting Comments

Please include Docket ID NRC-2016-0059, facility name, unit number(s), application date, and subject in your comment submission.

The NRC cautions you not to include identifying or contact information that you do not want to be publicly disclosed in your comment submission. The NRC posts all comment submissions at http://www.regulations.gov, as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC regulations, policies and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by May 31, 2016. The petition must be filed in accordance with the filing instructions in the “Electronic Submissions (E-Filing)” section of this document, and should meet the requirements for petitions for leave to intervene set forth in this section, except that under § 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Persons desiring to make a limited appearance are requested to inform the Secretary of the Commission by May 31, 2016.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Duke Energy Progress, Inc., Docket Nos. 50-325 and 50-324, Brunswick Steam Electric Plant, Units 1 and 2, Brunswick County, North Carolina

Date of amendment request: December 21, 2015. A publicly-available version is in ADAMS under Accession No. ML16004A249.

Description of amendment request: This amendment request would adopt the approved changes to the standard technical specifications for General Electric Plants Boiling Water Reactor (BWR/4) per NUREG-1433, Revision 4, to allow relocation of specific technical specification (TS) surveillance frequencies to a licensee-controlled program. The proposed changes are described in Technical Specification Task Force (TSTF) Traveler, TSTF-425, Revision 3, “Relocate Surveillance Frequencies to Licensee Control—RITSTF Initiative 5b” (ADAMS Accession No. ML090850642), and are described in the Notice of Availability published in the Federal Register on July 6, 2009 (74 FR 31996).

The proposed changes are consistent with NRC-approved TSTF Traveler, TSTF-425. The proposed changes relocate surveillance frequencies to a licensee-controlled program, the Surveillance Frequency Control Program (SFCP). This change is applicable to licensees using probabilistic risk guidelines contained in NRC-approved Nuclear Energy Institute (NEI) 04-10, “Risk-Informed Technical Specifications Initiative 5b, Risk-Informed Method for Control of Surveillance Frequencies” (ADAMS Accession No. ML071360456).

Basis for proposed no significant hazards consideration determination: As required by 10 CFR 50.91(a), the licensee has provided its analysis of the issue of no significant hazards consideration, which is presented below:

1. Does the proposed change involve a significant increase in the probability or consequences of an accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Does the proposed change create the possibility of a new or different kind of accident from any accident previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed changes do not create the possibility of a new or different kind of accident from any accident previously evaluated.

3. Does the proposed change involve a significant reduction in a margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, Duke Energy will perform a probabilistic risk evaluation using the guidance contained in NRC approved NEI 04-10, Revision 1, in accordance with the TS SFCP. NEI 04-10, Revision 1, methodology provides reasonable acceptance guidelines and methods for evaluating the risk increase of proposed changes to surveillance frequencies consistent with Regulatory Guide 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, 550 South Tryon Street, M/C DEC45A, Charlotte, North Carolina 28202.

NRC Branch Chief: Benjamin G. Beasley.

Entergy Nuclear Operations, Inc., Docket No. 50-333, James A. FitzPatrick Nuclear Power Plant (JAF), Oswego County, New York

Date of amendment request: February 4, 2016. A publicly-available version is in ADAMS under Package Accession No. ML16043A424.

Description of amendment request: The amendment would revise the JAF Emergency Plan to reduce the Emergency Response Organization (ERO) positions that the licensee considers unnecessary to effectively respond to credible accidents following permanent defueling. The proposed amendment would not be effective until the certification of permanent cessation of operation and certification of permanent removal of fuel from the reactor vessel are submitted to the NRC. The licensee has provided a formal notification to the NRC of the intention to permanently cease power operations of JAF at the end of the current operating cycle. Once certifications for permanent cessation of operation and permanent removal of fuel from the reactor are submitted to the NRC, reactor operation is no longer authorized and the spectrum of credible accidents at the facility will be reduced. The licensee states that certain on-shift positions for the ERO that are needed during normal reactor operation will no longer be necessary to protect the public health and safety from the risks associated with spent fuel storage and decommissioning activities.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the JAF Emergency Plan do not impact the function of plant structures, systems, or components (SSCs). The proposed changes do not affect accident initiators or precursors, nor does it alter design assumptions. The proposed changes do not prevent the ability of the on-shift staff and ERO to perform their intended functions to mitigate the consequences of any accident or event that will be credible in the permanently defueled condition. The proposed changes only remove positions that will no longer be credited in the JAF Emergency Plan in the permanently defueled condition.

Therefore, the proposed amendment does not involve a significant increase in the probability or consequences of an accident previously evaluated.

2. Does the proposed amendment create the possibility of a new or different kind of accident from any accident previously evaluated?

Response: No.

The proposed changes reduce the number of on-shift and ERO positions commensurate with the hazards associated with a permanently shutdown and defueled facility. The proposed changes do not involve installation of new equipment or modification of existing equipment, so that no new equipment failure modes are introduced. Also, the proposed changes do not result in a change to the way that the equipment or facility is operated so that no new accident initiators are created.

Therefore, the proposed amendment does not create the possibility of a new or different kind of accident from any previously evaluated.

3. Does the proposed amendment involve a significant reduction in a margin of safety?

Response: No.

Margin of safety is associated with confidence in the ability of the fission product barriers (i.e., fuel cladding, reactor coolant system pressure boundary, and containment structure) to limit the level of radiation dose to the public. The proposed changes are associated with the JAF Emergency Plan staffing and do not impact operation of the plant or its response to transients or accidents. The change does not affect the Technical Specifications. The proposed changes do not involve a change in the method of plant operation, and no accident analyses will be affected by the proposed changes. Safety analysis acceptance criteria are not affected by the proposed changes. The revised JAF Emergency Plan will continue to provide the necessary response staff with the proposed changes.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Jeanne Cho, Assistant General Counsel, Entergy Nuclear Operations, Inc., 440 Hamilton Avenue, White Plains, New York 10601.

NRC Branch Chief: Meena K. Khanna.

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket Nos. 50-254 and 50-265, Quad Cities Nuclear Power Station, Units 1 and 2, Rock Island County, Illinois

Date of amendment request: February 3, 2016. A publicly-available version is in ADAMS under Accession No. ML16034A542.

Description of amendment request: The proposed change would revise Surveillance Requirement (SR) 3.6.4.1.2, for each facility, to provide an allowance for brief, inadvertent, simultaneous opening of redundant secondary containment access doors during normal entry and exit conditions.

Basis for proposed no significant hazards consideration determination: As required by 10 CFR 50.91(a), the licensee has provided its analysis of the issue of no significant hazards consideration, which is presented below:

1. Does the proposed change involve a significant increase in the probability or consequences of an accident previously evaluated?

Response: No.

The proposed change allows temporary conditions during which secondary containment SR 3.6.4.1.2 is not met. The secondary containment is not an initiator of any accident previously evaluated. As a result, the probability of any accident previously evaluated is not increased. The consequences of an accident previously evaluated while utilizing the proposed change are no different than the consequences of an accident while utilizing the existing 4-hour Completion Time for an inoperable secondary containment. As a result, the consequences of an accident previously evaluated are not significantly increased.

Therefore, the proposed change does not involve a significant increase in the probability or consequences of an accident previously evaluated.

2. Does the proposed change create the possibility of a new or different kind of accident from any accident previously evaluated?

Response: No.

The proposed change does not alter the protection system design, create new failure modes, or change any modes of operation. The proposed change does not involve a physical alteration of the plant, and no new or different kind of equipment will be installed. Consequently, there are no new initiators that could result in a new or different kind of accident.

Therefore, the proposed change does not create the possibility of a new or different kind of accident from any accident previously evaluated.

3. Does the proposed change involve a significant reduction in a margin of safety?

Response: No.

The proposed change allows temporary conditions during which secondary containment SR 3.6.4.1.2 is not met. The allowance for both an inner and outer secondary containment access door to be open simultaneously for entry and exit does not affect the safety function of the secondary containment as the doors are promptly closed after entry or exit, thereby restoring the secondary containment boundary. In addition, brief, inadvertent, simultaneous opening and closing of redundant secondary containment access doors during normal entry and exit conditions does not affect the ability of the Standby Gas Treatment system to establish the required secondary containment vacuum.

Therefore, the safety function of the secondary containment is not affected.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Bradley Fewell, Associate General Counsel, Exelon Generation Company, LLC, 4300 Winfield Road, Warrenville, Illinois 60555.

Acting NRC Branch Chief: Justin C. Poole.

Exelon Generation Company, LLC, Docket No. 50-244, R.E. Ginna Nuclear Power Plant, Wayne County, New York

Date of amendment request: February 4, 2016. A publicly-available version is in ADAMS under Accession No. ML16035A015.

Description of amendment request: The amendment would revise R.E. Ginna Nuclear Power Plant's Technical Specifications limit for Reactor Coolant System (RCS) gross specific activity with a new limit based upon RCS noble gas specific activity.

Basis for proposed no significant hazards consideration determination: As required by 10 CFR 50.91(a), the licensee has provided its analysis of the issue of no significant hazards consideration, which is presented below:

1. Does the proposed amendment involve a significant increase in the probability or consequences of an accident previously evaluated?

Response: No.

Reactor coolant specific activity is not an initiator for any accident previously evaluated. The Completion Time when primary coolant gross activity is not within limit is not an initiator for any accident previously evaluated. The current variable limit on primary coolant iodine concentration is not an initiator to any accident previously evaluated. As a result, the proposed change does not significantly increase the probability of an accident. The proposed change will limit primary coolant noble gases to concentrations consistent with the accident analyses. The proposed change to the Completion Time has no impact on the consequences of any design basis accident since the consequences of an accident during the extended Completion Time are the same as the consequences of an accident during the Completion Time. As a result, the consequences of any accident previously evaluated are not significantly increased.

Therefore, the proposed changes do not involve a significant increase in the probability or consequences of an accident previously evaluated.

2. Does the proposed amendment create the possibility of a new or different kind of accident from any accident previously evaluated?

Response: No.

The proposed change in specific activity limits does not alter any physical part of the plant nor does it affect any plant operating parameter. The change does not create the potential for a new or different kind of accident from any previously calculated.

Therefore, the proposed changes do not create the possibility of a new or different kind of accident from any accident previously evaluated.

3. Does the proposed amendment involve a significant reduction in a margin of safety?

Response: No.

The proposed change revises the limits on noble gas radioactivity in the primary coolant. The proposed change is consistent with the assumptions in the safety analyses and will ensure the monitored values protect the initial assumptions in the safety analyses.

Based upon the reasoning presented above and the previous discussion of the amendment request, the requested change does not involve a significant hazards consideration.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, Illinois 60555.

NRC Branch Chief: Travis L. Tate.

FirstEnergy Nuclear Operating Company, et al., Docket No. 50-346, Davis-Besse Nuclear Power Station, Unit No. 1, Ottawa County, Ohio

Date of application for amendment: February 9, 2016. A publicly-available version is in ADAMS under Accession No. ML16041A115

Description of amendment request: The amendment would revise the technical specifications (TS) requirements for limitations on the radioactive material released in liquid and gaseous effluents and the references for the radioactive material effluent requirements.

Basis for proposed no significant hazards consideration determination: As required by 10 CFR 50.91(a), the licensee has provided its analysis of the issue of no significant hazards consideration, which is presented below, along with NRC edits in square brackets:

1. Does the proposed amendment involve a significant increase in the probability or consequences of an accident previously evaluated?

Response: No.

This license amendment request revises TS 5.5.3.b and TS 5.5.3.g consistent with two changes proposed in [Technical Specification Task Force] TSTF-258-A. The amendment has no effect on the design, testing, or operation of plant structures, systems, or components. The proposed amendment does not affect any accident initiators and does not impact any safety analysis. The proposed amendment does not impose any new radiological hazards to the plant staff or the public.

Therefore, the proposed amendment does not involve an increase in the probability or consequences of an accident previously evaluated.

2. Does the proposed amendment create the possibility of a new or different kind of accident from any accident previously evaluated?

Response: No.

This license amendment request revises TS 5.5.3.b and TS 5.5.3.g consistent with two changes proposed in TSTF-258-A. The amendment will not change any equipment, does not require new equipment to be installed, and will not change the way current equipment operates or is maintained. No credible failure mechanisms, malfunctions, or accident initiators are created by the proposed amendment.

Therefore, the proposed amendment does not create the possibility of a new or different kind of accident from any accident previously evaluated.

3. Does the proposed amendment involve a significant reduction in a margin of safety?

Response: No.

This license amendment request revises TS 5.5.3.b and TS 5.5.3.g consistent with two changes proposed in TSTF-258-A. The amendment has no effect on the design, testing, maintenance, or operation of plant structures, systems, or components. The proposed amendment does not affect any safety analysis.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, Ohio 44308.

[Acting] NRC Branch Chief: Justin C. Poole.

Florida Power & Light Company, et al., Docket Nos. 50-335 and 50-389, St. Lucie Plant, Unit Nos. 1 and 2, St. Lucie County, Florida

Date of amendment request: January 19, 2016. A publicly-available version is in ADAMS under Accession No. ML16033A472.

Description of amendment request: The amendments would revise the Operating Licenses' licensing basis to allow elimination of the end-of-cycle moderator temperature coefficient (MTC) surveillance test as supported by NRC-Approved Topical Report CE NPSD-911-A and Amendment 1-A, “Analysis of Moderator Temperature Coefficients in Support of a Change in the Technical Specification End-of-Cycle Negative MTC Limit,” and St. Lucie specific supporting information. This amendment request also proposes to add previously NRC approved Westinghouse PARAGON Topical Report WCAP-16045-P-A, Revision 0, “Qualification of the Two-Dimensional Transport Code PARAGON,” to the Units 1 and 2 Technical Specification list of Core Operating Limits Report (COLR) methodologies.

Basis for proposed no significant hazards consideration determination: As required by 10 CFR 50.91(a), the licensee has provided its analysis of the issue of no significant hazards consideration, which is presented below:

1. Does the proposed change involve a significant increase in the probability or consequences of an accident previously evaluated?

Response: No.

A change is proposed to eliminate the measurement of end-of-cycle (EOC) moderator temperature coefficient (MTC) if the beginning-of-cycle (BOC) measurements are within a given tolerance of the design values. MTC is not an initiator of any accident previously evaluated. Consequently, the probability of an accident previously evaluated is not significantly increased.

The EOC MTC value is an important assumption in determining the consequences of accidents previously evaluated. The analysis presented in the Topical Report CE NPSD-911-A and Amendment 1-A, with additional justification provided in this amendment request, determined that the EOC MTC will be within design limits if the BOC MTC design values are within a given tolerance of the measured values. Therefore, the EOC MTC will continue to be within design limits and the consequences of accidents will continue to be as previously evaluated.

The addition of WCAP-16045-P-A, which has been previously approved by the NRC for licensing applications to TS 6.9.1.11.b, is an administrative change which has no impact on the probability or consequences of any accident previously evaluated.

As a result, the proposed changes do not involve a significant increase in the probability or consequences of an accident previously evaluated.

2. Does the proposed change create the possibility of a new or different kind of accident from any accident previously evaluated?

Response: No.

A change is proposed to eliminate the measurement of EOC MTC if the BOC measurements are within a given tolerance of the design values. Also, a new previously approved methodology is proposed to be included in the TS list of COLR methodologies. The proposed changes do not involve a physical alteration of the plant (no new or different type of equipment will be installed) or a change in the methods governing normal plant operation.

Therefore, the proposed changes do not create the possibility of a new or different kind of accident from any accident previously evaluated.

3. Does the proposed change involve a significant reduction in a margin of safety?

Response: No.

A change is proposed to eliminate the measurement of EOC MTC if the BOC measurements are within a given tolerance of the design values. The Topical Report CE NPSD-911-A and Amendment 1-A, with additional justification provided in this amendment request, concluded that the risk of not measuring the EOC MTC is acceptably small provided that the BOC measured values are within a specific tolerance of the design values. Also, WCAP-16045-P-A proposed to be added to TS 6.9.1.11, has been previously approved by the NRC for licensing applications to be used consistent with the approved methodologies.

Therefore, the proposed changes do not involve a significant reduction in a margin of safety.

The NRC staff has reviewed the licensee's analysis and, based on this review, it appears that the three standards of 50.92(c) are satisfied. Therefore, the NRC staff proposes to determine that the amendment request involves no significant hazards consideration.

Attorney for licensee: William S. Blair, Managing Attorney—Nuclear, Florida Power & Light Company, 700 Universe Boulevard, MS LAW/JB, Juno Beach, Florida 33408-0420.

NRC Branch Chief: Benjamin G. Beasley.

Southern Nuclear Operating Company, Docket Nos. 52-025 and 52-026, Vogtle Electric Generating Plant (VEGP), Units 3 and 4, Burke County, Georgia

Date of amendment request: January 29, 2016. A publicly-available version is in ADAMS under Accession No. ML16029A476.

Description of amendment request: The proposed change would amend Combined License Nos. NPF-91 and NPF-92 for the Vogtle Electric Generating Plant Units 3 and 4. The requested amendment proposes to depart from approved AP1000 Design Control Documents (DCD) Tier 2 information (text, tables, and figures) and involved Tier 2* information (as incorporated into the Updated Final Safety Analysis Report (UFSAR) as plant specific DCD information), and also involves a change to the plant-specific Technical Specifications. Specifically, the amendment request proposed changes to the plant-specific AP1000 fuel system design, nuclear design, thermal hydraulic design, and accident analyses as described in the licensing basis documents. The proposed changes are consistent with those generically approved in WCAP-17524-P-A, Revision 1, “AP1000 Core Reference Report.” Basis for proposed no significant hazards consideration determination: As required by 10 CFR 50.91(a), the licensee has provided its analysis of the issue of no significant hazards consideration, which is presented below:

1. Does the proposed amendment involve a significant increase in the probability or consequences of an accident previously evaluated?

Response: No.

The proposed changes will revise the licensing basis documents related to the fuel system design, nuclear design, thermal hydraulic design, and accident analyses.

The UFSAR Chapter 15 accident analyses describe the analyses of various design basis transients and accidents to demonstrate compliance of the AP1000 design with the acceptance criteria for these events. The acceptance criteria for the various events are based on meeting the relevant regulations, general design criteria, the Standard Review Plan, and are a function of the anticipated frequency of occurrence of the event and potential radiological consequences to the public. As such, each design-basis event is categorized accordingly based on these considerations. As discussed in Section 5.3 of WCAP-17524-P-A Revision 1, the revised accident analyses maintain their plant conditions, and thus their frequency designation and consequence level as previously evaluated. As confirmed in the Safety Evaluation Report (SER), the revised analyses meet the applicable guidelines in the Standard Review Plan.

Therefore, the proposed amendment does not involve an increase in the probability or consequences of an accident previously evaluated.

2. Does the proposed amendment create the possibility of a new or different kind of accident from any accident previously evaluated?

Response: No.

The proposed changes will revise the licensing basis documents related to the fuel system design, nuclear design, thermal hydraulic design, and accident analyses.

The proposed changes would not introduce a new failure mode, fault, or sequence of events that could result in a radioactive material release. The proposed changes do not alter the design, configuration, or method of operation of the plant beyond standard functional capabilities of the equipment.

Therefore, this activity does not create the possibility of a new or different kind of accident from any accident previously evaluated.

3. Does the proposed amendment involve a significant reduction in a margin of safety?

Response: No.

The proposed changes will revise the licensing basis documents related to the fuel system design, nuclear design, thermal hydraulic design, and accident analyses.

Safety margins are applied at many levels to the design and licensing basis functions and to the controlling values of parameters to account for various uncertainties and to avoid exceeding regulatory or licensing limits. UFSAR Subsection 4.1.1 presents the Principle Design Requirements imposed on the fuel and control rod mechanism design to ensure that the performance and safety criteria described in UFSAR Chapter 4 and Chapter 15 are met. The revised fuel system design, nuclear design, thermal hydraulic design, and accident analyses maintain the same Principle Design Requirements, and further, satisfy the applicable regulations, general design criteria, and Standard Review Plan. The effects of the changes do not result in a significant reduction in margin for any safety function, and were evaluated in the Safety Evaluation Report for WCAP-17524-P-A Revision 1 and found to be acceptable.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, Alabama 35203-2015.

Acting NRC Branch Chief: John McKirgan.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress Inc., Docket No. 50-261, H. B. Robinson Steam Electric Plant, Unit No. 2, Darlington County, South Carolina

Duke Energy Progress Inc., Docket No. 50-400, Shearon Harris Nuclear Power Plant, Unit 1, Wake County, North Carolina

Date of amendment request: March 5, 2015, as supplemented by letters dated August 10, 2015, December 17, 2015 and February 1, 2016, respectively.

Brief description of amendments: The amendments revised Robinson Technical Specification (TS) 5.6.5.b and Harris TS 6.9.1.6.2 to adopt the reactor core design methodology report DPC-NE-2005-P-A, “Thermal-Hydraulic Statistical Core Design Methodology,” for application to Robinson and Harris. The approval of the methodology report revision added Appendix H specifically reviewed for Robinson and Appendix I specifically reviewed for Harris, to use at each facility.

Date of issuance: March 8, 2016.

Effective date: As of the date of issuance and shall be implemented within 120 days of issuance.

Amendment Nos.: 148 and 244. A publicly-available version is in ADAMS under Accession No. ML16049A630; documents related to the amendments are listed in the Safety Evaluation (SE) enclosed with the amendments.

Renewed Facility Operating License Nos. DPR-23 and NPF-63: The amendments revised the Facility Operating Licenses and TSs.

Date of initial notice in Federal Register: August 4, 2015 (80 FR 46342). The supplemental letters dated August 10, 2015, December 17, 2015, and February 1, 2016, provided additional information that clarified the application, did not expand the scope of the application as originally noticed, and did not change the staff's original proposed no significant hazards consideration determination as published in the Federal Register.

The Commission's related evaluation of the amendment is contained in an SE dated March 8, 2016.

No significant hazards consideration comments received: No.

FirstEnergy Nuclear Operating Company, et al., Docket No. 50-346, Davis-Besse Nuclear Power Station (DBNPS), Unit No. 1, Ottawa County, Ohio

Date of application for amendment: March 12, 2015, as supplemented by letter dated May 6, 2015.

Brief description of amendment: This amendment revises the operating license to extend the completion date for full implementation of the DBNPS cyber security plan to December 31, 2017.

Date of issuance: March 8, 2016.

Effective date: As of the date of issuance and shall be implemented within 30 days from the date of issuance.

Amendment No.: 290. A publicly-available version is in ADAMS under Accession No. ML15302A075. Documents related to this amendment are listed in the safely evaluation enclosed with the amendment.

Renewed Facility Operating License No. NPF-3: Amendment revised the Renewed Facility Operating License.

Date of notice in Federal Register: May 5, 2015 (80 FR 25720). The supplemental letter dated May 6, 2015, provided additional information that clarified the application, did not expand the scope of the application as originally noticed, and did not change the staff's original proposed no significant hazards consideration determination as published in the Federal Register.

The Commission's related evaluation of the amendment is contained in a safety evaluation dated March 8, 2016.

No significant hazards consideration comments received: No.

Florida Power & Light Company, Docket Nos. 50-335 and 50-389, St. Lucie Plant, Unit Nos. 1 and 2, St. Lucie County, Florida

Date of amendment requests: March 10, 2015, as supplemented by a letter dated December 15, 2015.

Brief description of amendments: The amendments remove Technical Specification (TS) 3/4.9.5 related to communication during core alteration and TS 3/4.9.6 related to manipulator crane operability from the TSs and require inclusion of those specifications in the Updated Final Safety Analysis Report.

Date of issuance: March 7, 2016.

Effective date: As of the date of issuance and shall be implemented within 60 days of issuance.

Amendment Nos.: 230 and 180. A publicly-available version is in ADAMS under Accession No. ML16034A080; documents related to these amendments are listed in the Safety Evaluation (SE) enclosed with the amendments.

Renewed Facility Operating License Nos. DPR-67 and NPF-16: Amendments revised the Renewed Facility Operating Licenses and TSs.

Date of initial notice in Federal Register: October 13, 2015 (80 FR 61483). The supplemental letter dated December 15, 2015, provided additional information that clarified the application, did not expand the scope of the application as originally noticed, and did not change the staff's original proposed no significant hazards consideration determination as published in the Federal Register.

The Commission's related evaluation of the amendment is contained in an SE dated March 7, 2016.

No significant hazards consideration comments received: No.

Florida Power & Light Company, et al., Docket Nos. 50-335 and 50-389, St. Lucie Plant, Unit Nos. 1 and 2, St. Lucie County, Florida

Date of amendment request: July 15, 2015, as supplemented by letter dated December 15, 2015.

Brief description of amendments: The amendments revise the technical specification (TS) to ensure consistency between the two units in the required actions for inoperability of auxiliary feedwater pumps.

Date of Issuance: March 7, 2016.

Effective Date: As of the date of issuance and shall be implemented within 90 days of issuance.

Amendment Nos.: 229 (Unit No. 1) and 179 (Unit No. 2). A publicly-available version is in ADAMS under Accession No. ML15356A611; documents related to these amendments are listed in the Safety Evaluation enclosed with the amendments.

Renewed Facility Operating License Nos. DPR-67 and NPF-16: Amendments revised the TSs.

Date of initial notice in Federal Register: November 24, 2015 (80 FR 73237). The supplemental letter dated December 15, 2015, provided additional information that clarified the application, did not expand the scope of the application as originally noticed, and did not change the staff's original proposed no significant hazards consideration determination as published in the Federal Register.

The Commission's related evaluation of the amendments is contained in a Safety Evaluation dated March 7, 2016.

No significant hazards consideration comments received: No.

Pacific Gas and Electric Company, Docket Nos. 50-275 and 50-323, Diablo Canyon Nuclear Power Plant, Unit Nos. 1 and 2 (DCPP), San Luis Obispo County, California

Date of application for amendments: April 16, 2015.

Brief description of amendments: The amendments revised the Best Estimate Analyzer for the Core Operations-Nuclear (BEACON) power distribution monitoring system methodology described in the DCPP Updated Final Safety Analysis Report (UFSAR) Section 4.3.2.2, “Power Distribution,” to the method described in the Westinghouse Electric Company LLC (Westinghouse) proprietary topical report (TR) WCAP-12472-P-A, Addendum 4, “BEACON Core Monitoring and Operation Support System.” The amendments also revised Technical Specification (TS) 5.6.5, “CORE OPERATING LIMITS REPORT (COLR),” Section b to replace Westinghouse proprietary TR WCAP-11596-P-A, “Qualification of the PHOENIX-P/ANC Nuclear Design System for Pressurized Water Reactor Cores,” with NRC-approved proprietary TR WCAP-16045-P-A, “Qualification of the Two-Dimensional Transport Code PARAGON,” and NRC-approved proprietary TR WCAP-16045-P-A, Addendum 1-A, “Qualification of the NEXUS Nuclear Data Methodology.”

Date of issuance: March 6, 2016.

Effective date: As of its date of issuance and shall be implemented prior to MODE 4 at the start of Cycle 21 for Unit 1, and for Unit 2 prior to MODE 4 at the start of Cycle 20.

Amendment Nos.: Unit 1—224; Unit 2—226. A publicly-available version is in ADAMS under Accession No. ML16055A359; documents related to these amendments are listed in the Safety Evaluation enclosed with the amendments.

Facility Operating License Nos. DPR-80 and DPR-82: The amendments revised the Facility Operating Licenses, TSs, and UFSAR.

Date of initial notice in Federal Register: June 9, 2015 (80 FR 32628).

The Commission's related evaluation of the amendments is contained in a Safety Evaluation dated March 9, 2016.

No significant hazards consideration comments received: No.

PSEG Nuclear LLC, Docket Nos. 50-272 and 50-311, Salem Nuclear Generating Station, Unit Nos. 1 and 2, Salem County, New Jersey

Date of amendment request: March 9, 2015, as supplemented by letters dated April 10, 2015; November 25, 2015; and February 3, 2016.

Brief description of amendments: The amendments created new Technical Specification (TS) 3.9.2.1, “Refueling Operations/Unborated Water Source Isolation Valves,” to isolate unborated water sources in Mode 6 (Refueling) and revised the existing TS 3.9.2, “Refueling Operations/Instrumentation,” to support using the Gamma-Metrics post-accident neutron monitors for neutron flux indication during Mode 6. TS 3.9.2 is renumbered as TS 3.9.2.2, and the TS language is reworded to be consistent with the language in NUREG-1431, Revision 4, “Standard Technical Specifications, Westinghouse Plants.” These amendments also remove the existing requirement for the audible indication of the source range neutron flux monitor in the containment and the control room during Mode 6.

Date of issuance: March 7, 2016.

Effective date: As of the date of issuance and shall be implemented within 120 days of issuance.

Amendment Nos.: 311 (Unit No. 1) and 292 (Unit No. 2). A publicly-available version is in ADAMS under Accession No. ML16035A087; documents related to these amendments are listed in the Safety Evaluation enclosed with the amendments.

Renewed Facility Operating License Nos. DPR-70 and DPR-75: Amendments revised the Renewed Facility Operating Licenses and TSs.

Date of initial notice in Federal Register: May 26, 2015 (80 FR 30101). The supplemental letters dated November 25, 2015, and February 3, 2016, provided additional information that clarified the application, did not expand the scope of the application as originally noticed, and did not change the staff's original proposed no significant hazards consideration determination as published in the Federal Register.

The Commission's related evaluation of the amendment is contained in a Safety Evaluation dated March 7, 2016.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of amendment request: August 4, 2015.

Brief description of amendments: The amendments corrected the Edwin I. Hatch Nuclear Plant (HNP), Unit 1, Renewed Facility Operating License (RFOL) and the HNP, Units 1 and 2, Technical Specifications (TSs). Specifically, the amendments correct typographical errors in the HNP, Unit 1, RFOL, and HNP, Unit 2, TS, and add the term STAGGERED TEST BASIS to TS Section 1.1, “Definitions,” of the HNP, Units 1 and 2, TS.

Date of issuance: March 7, 2016.

Effective date: As of the date of issuance and shall be implemented within 90 days of issuance.

Amendment Nos.: 276 and 220. A publicly-available version is in ADAMS under Accession No. ML16043A101; documents related to these amendments are listed in the Safety Evaluation enclosed with the amendments.

Facility Operating License Nos. DPR-57 and NPF-5: Amendments revised the Facility Operating Licenses and Technical Specifications.

Date of initial notice in Federal Register: November 10, 2015 (80 FR 69717).

The Commission's related evaluation of the amendment is contained in a Safety Evaluation dated March 7, 2016.

No significant hazards consideration comments received: No.

Southern California Edison Company, et al., Docket Nos. 50-361 and 50-362, San Onofre Nuclear Generating Station, Units 2 and 3, San Diego County, California

Date of amendment request: August 20, 2015, as supplemented by letters dated November 19, 2015, and January 12, 2016.

Brief description of amendments: The proposed amendment would revise Appendix 3A of the Updated Final Safety Analysis Report to more fully reflect the permanently shutdown status of the San Onofre Nuclear Generating Station (SONGS), Units 2 and 3. The revision would include a limited set of exceptions and clarifications to referenced Regulatory Guides to reflect the significantly reduced decay heat loads in the SONGS Units 2 and 3 Spent Fuel Pools and to support corresponding design basis changes and modifications that will allow for the implementation of the “cold and dark” strategy outlined in the SONGS Post-Shutdown Decommissioning Activities Report.

Date of issuance: March 11, 2016.

Effective date: As of its date of issuance and shall be implemented within 60 days.

Amendment Nos.: Unit 2-233 and Unit 3-226: A publicly-available version is in ADAMS under Accession No. ML16055A522; documents related to these amendments are listed in the Safety Evaluation enclosed with the amendments.

Facility Operating License Nos. NPF-10 and NPF-15: The amendments revised the Facility Operating Licenses.

Date of initial notice in Federal Register: November 10, 2015 (80 FR 69715). The supplemental letters dated November 19, 2015, and January 12, 2016, provided additional information that clarified the application, did not expand the scope of the application as originally noticed, and did not change the staff's original proposed no significant hazards consideration determination as published in the Federal Register.

The Commission's related evaluation of the amendments is contained in a Safety Evaluation dated March 11, 2016.

No significant hazards consideration comments received: No.

Virginia Electric and Power Company, et al., Docket Nos. 50-280 and 50-281, Surry Power Station, Units 1 and 2, Surry County, Virginia

Date of amendment request: January 14, 2015, as supplemented by letters dated February 19, August 19, December 3, 2015 and January 25, 2016.

Brief description of amendments: The licensee requested to adopt the U.S. Nuclear Regulatory Commission-approved Technical Specifications Task Force (TSTF) Standard Technical Specifications Change Traveler TSTF-523, Revision 2, “Generic Letter 2008-01, Managing Gas Accumulation” (ADAMS Accession No. ML13053A075), dated February 21, 2013. The availability of this TS improvement was announced in the Federal Register on January 15, 2014 (79 FR 2700), as part of the consolidated line item improvement process (CLIIP).

Date of issuance: February 29, 2016.

Effective date: As of its date of issuance and shall be implemented within 60 days from the date of issuance.

Amendment Nos.: Unit 1-287; Unit 2-287. A publicly-available version is in ADAMS under Accession No. ML16042A173; documents related to these amendments are listed in the Safety Evaluation enclosed with the amendments.

Renewed Facility Operating License Nos. DPR-32 and DPR-37: The amendments revise the Renewed Facility Operating Licenses and the Technical Specifications.

Date of initial notice in Federal Register: (80 FR 35986, June 23, 2015). The supplemental letters dated February 19, August 19, December 3, 2015 and January 25, 2016, provided additional information that clarified the application, did not expand the scope of the application as originally noticed, and did not change the staff's original proposed no significant hazards consideration determination as published in the Federal Register.

The Commission's related evaluation of the amendments is contained in a Safety Evaluation dated February 29, 2016.

No significant hazards consideration comments received: No.

IV. Notice of Issuance of Amendment to Renewed Facility Operating License, Determination of No Significant Hazards Consideration, and Opportunity for Hearing (Exigent Public Announcement or Emergency Circumstances)

South Carolina Electric & Gas Company, South Carolina Public Service Authority, Docket No. 50-395, Virgil C. Summer Nuclear Station, Unit No. 1, Fairfield County, South Carolina

Date of amendment request: March 1, 2016, as supplemented by letter dated March 3, 2016.

Brief description of amendment: The amendment revised Technical Specification (TS) 3.7.1.2, “Plant Systems—Emergency Feedwater System,” action statement b for two emergency feedwater pumps being inoperable by adding a note to the statement “be in at least HOT STANDBY within 6 hours” that extends this time period to 24 hours. The extended action duration is needed to allow the testing of three auxiliary feedwater flow control valves that was missed during the previous refueling outage. This is a one-time change and expires on March 18, 2016.

Date of issuance: March 9, 2016.

Effective date: As of the date of issuance and shall be implemented immediately.

Amendment No.: 203. A publicly-available version is in ADAMS under Accession No. ML16063A090; documents related to this amendment are listed in the Safety Evaluation enclosed with the amendment.

Renewed Facility Operating License No. NPF-12: Amendment revised the Renewed Facility Operating License and Technical Specifications.

Public comments requested as to proposed no significant hazards consideration (NSHC): Yes. Public notice of the proposed amendment was published in The State, located in Columbia, South Carolina, on March 5 and March 6, 2016. The notice provided an opportunity to submit comments on the Commission's proposed NSHC determination.

The Commission's related evaluation of the amendment, finding of exigent circumstances, state consultation, and NSHC determination are contained in a safety evaluation dated March 9, 2016.

No significant hazards consideration comments received: No.

Dated at Rockville, Maryland, this 18th day of March 2016.
For the Nuclear Regulatory Commission.
Anne T. Boland,
Director, Division of Operating Reactor Licensing, Office of Nuclear Reactor Regulation.

[FR Doc. 2016-06939 Filed 3-28-16; 8:45 am]

BILLING CODE 7590-01-P